DEPARTMENT OF COMMERCE

National Oceanic and Atmospheric Administration

Draft Revised Management Plan for the Chesapeake Bay Virginia National Estuarine Research Reserve

AGENCY: Office for Coastal Management, National Ocean Service, National Oceanic and Atmospheric Administration, U.S. Department of Commerce.

ACTION: Request for comments on draft revised management plan.

SUMMARY: The National Oceanic and Atmospheric Administration (NOAA) is soliciting comments from the public regarding a proposed revision of the management plan for the Chesapeake Bay Virginia National Estuarine Research Reserve (NERR or Reserve). A management plan provides a framework for the direction and timing of a reserve's programs; allows reserve managers to assess a reserve's success in meeting its goals and to identify any necessary changes in direction; and is used to guide programmatic evaluations of the reserve. Plan revisions are required of each reserve in the National Estuarine Research Reserve System at least every five years. This draft revised plan is intended to replace the plan approved in 2008.

DATES: Comments are due by March 31, 2022.

ADDRESSES: The draft revised management plan can be accessed at: https://www.vims.edu/cbnerr/resources/resources_annual_reports.php. The document is also available by sending a written request to the point of contact identified below (see FOR FURTHER INFORMATION).

• Electronic Submission: Submit all electronic public comments by email to tricia.hooper@noaa.gov. Include “Comments on draft Chesapeake Bay Virginia Reserve Management Plan” in the subject line of the message.

FOR FURTHER INFORMATION CONTACT: Tricia Hooper of NOAA's Office for Coastal Management, by email at tricia.hooper@noaa.gov or phone at 617-921-1998.

SUPPLEMENTARY INFORMATION: Pursuant to 15 CFR 921.33(c), a State must revise the management plan for the research reserve at least every five years. If approved by NOAA, the Chesapeake Bay Virginia NERR's draft revised plan would replace the plan previously approved in 2008.

The draft revised management plan outlines the reserve's strategic goals and objectives; administrative structure; programs for conducting research and monitoring, education, and training; resource protection, restoration, and manipulation plans; public access and visitor use plans; consideration for future land acquisition; and facility development to support reserve operations. In particular, this draft revised management plan focuses efforts and investments in three functional areas:

• Enhance and inspire stewardship, protection, and management of estuaries, their watersheds, and cultural connections through place-based approaches.

• Generate, apply, and transfer scientific knowledge of estuarine and coastal watershed resources to increase understanding, appreciation, and betterment of coastal communities.

• Advance environmental literacy and appreciation, allowing for better resource stewardship and science-based decisions that positively affect estuaries, their watersheds, and communities.

Since 2008, the reserve has made notable investments in programs and infrastructure, which include launching the new Margaret A. Davidson Fellowship, reinvigorating the York River and Small Coastal Basin Roundtable, and establishing the Environmental Data Center and the Virginia Scientists and Educators Alliance with partners at the Virginia Institute of Marine Science. The reserve installed a floating dock at Taskinas Creek and Catlett Islands components, and maintained extensive Sentinel Site infrastructure, including boardways, sediment elevation tables, tide gauges, and survey benchmarks. The reserve also navigated changes in ownership and management at the Catlett Islands and Sweet Hall Marsh components, conducted an internal reorganization, and developed a comprehensive communications plan. The draft revised management plan, once approved, would serve as the guiding document for the 3,072-acre research reserve for the next five years.

NOAA's Office for Coastal Management analyzes the environmental impacts of the proposed approval of this draft revised management plan in accordance with section 102(2)(C) of the National Environmental Policy Act of 1969, as amended, 42 U.S.C. 4332(2)(C), and the Council on Environmental Quality Regulations for Implementing the Procedural Provisions of NEPA (40 CFR 1500-1508). The public is invited to comment on the draft revised management plan. NOAA will take these comments into consideration in deciding whether to approve the draft revised management plan in whole or in part.

Authority: 16 U.S.C. 1451 et seq.; 15 CFR 921.33.

Keelin S. Kuipers,
Deputy Director, Office for Coastal Management, National Ocean Service, National Oceanic and Atmospheric Administration.

[FR Doc. 2022-04206 Filed 2-28-22; 8:45 am]

BILLING CODE 3510-NK-P